ENVIRONMENTAL PROTECTION AGENCY

[FRL-7218-8]

Environmental Laboratory Advisory Board Meeting Date, and Agenda

AGENCY: Environmental Protection Agency (EPA).

ACTION: Notice of public meeting.

SUMMARY: The Environmental Protection Agency's Environmental Laboratory Advisory Board (ELAB) will hold an Open Forum on Tuesday July 9, 2002 at 5-6 p.m. EDT and an Open Meeting on Thursday July 11, 2002 at 1:30-5 p.m. EDT at the Wyndham Harbour Island Hotel, 725 S. Harbour Island Boulevard, Tampa, Florida. Members of the public are invited to attend both events. Items to be discussed include: (1) Update on recommendations to restructure the National Environmental Laboratory Accreditation Conference (NELAC) to allow it to better serve the future needs of EPA, the States, and the private sector, (2) discussion of ELAB recommendations to EPA, and (3) review of Action Items from the June 19 ELAB meeting. ELAB is soliciting input from the public on these and other issues related to the National Environmental Laboratory Accreditation Program (NELAP) and the NELAC standards. Written comments on NELAP laboratory accreditation and the NELAC standards are encouraged and should be sent to Mr. Edward Kantor,DFO, P.O. Box 93478, Las Vegas, NV 89193, faxed to (702) 798-2261, or e-mailed to kantor.edward@epa.gov. or can be presented in person at the Open Forum, July 9. Members of the public are invited to raise issues or to make comments at the Open Forum and time permitting, will be allowed to comment on discussions ensued from the ELAB Open Meeting.

Dated: May 20, 2002.
John G. Lyon,
Director, Environmental Sciences Division, National Environmental Research Laboratory.

[FR Doc. 02-13351 Filed 5-28-02; 8:45 am]

BILLING CODE 6560-50-P